DEPARTMENT OF ENERGY

Federal Energy Regulatory Commission

[Docket No. RP00-300-000]

Tennessee Gas Pipeline Company; Notice of Proposed Changes in FERC Gas Tariff

June 2, 2000.

Take notice that on May 24, 2000, Tennessee Gas Pipeline Company (Tennessee) tendered for filing as part of its FERC Gas Tariff, Fifth Revised Volume No. 1, the tariff sheets listed on Appendix A to the filing, with an effective date of June 23, 2000.

Tennessee is requesting authority: (1) To choose to record and maintain reserve prices, if established, for validation purposes as opposed to disclosing such reserve price as part of the open season and (2) to allow prearranged deals with the customer with the pre-arranged transaction will have a right of to match any higher bid. In addition, Tennessee is adding language to clarify how the NPV will be calculated for bids that include a customer's option to terminate its contract early or reduce capacity separate from the primary term. Tennessee is also adding tariff language that allows for a pro rata distribution of capacity prior to the use of first-in-time as a tiebreaker or for when aggregated bids have the highest NPV.

Finally, in addition to other minor tariff clean-ups, Tennessee is clarifying that in package bids where part of the package includes a change in primary points that negatively affects Tennessee's revenues, the value of the primary point amendment will be treated as a negative adjustment to the value of the package bid.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-14388 Filed 6-7-00; 8:45 am]

BILLING CODE 6717-01-M